NUCLEAR REGULATORY COMMISSION

10 CFR Part 26

Fitness-for-Duty Programs

AGENCY: U.S. Nuclear Regulatory Commission.

ACTION: Availability of Draft Outline and Rule Wording.

SUMMARY: The Nuclear Regulatory Commission (NRC) is making available draft wording of a possible amendment of its regulations. The proposal would amend Title 10 Code of Federal Regulations (10 CFR) part 26, “Fitness-for-Duty Programs.” The general objective of this program continues to be to provide reasonable assurance that nuclear power plant and nuclear fuel facility personnel are reliable, trustworthy, and not under the influence of any substance, legal or illegal, or mentally or physically impaired from any cause, that in any way may adversely affect their ability to safely and competently perform their duties. The changes should reduce the regulatory burden for licensees and improve the effectiveness of 10 CFR part 26. The availability of draft wording is intended to inform stakeholders of the current status of the NRC staff's rulemaking development activities and to provide stakeholders the opportunity to comment on the draft changes.

DATES: Comments on the draft rule outline and on individual sections should be submitted within 45 days from the applicable date shown on the draft rule development schedule included with the draft rule outline. Any comments received after this date may not be considered during the drafting of the proposed rule.

ADDRESSES: Submit written comments to: Secretary, U.S. Nuclear Regulatory Commission, Washington, DC 20555-0001, Attention: Rulemakings and Adjudications Staff. Mail Stop O16-C1 or deliver written comments to One White Flint North, 11555 Rockville Pike, Rockville, Maryland, between 7:30 a.m. and 4:15 p.m. on Federal workdays.

The NRC has now developed a draft rule outline and wording for sections of Part 26 and has made them available on the NRC's rulemaking Web site at http://ruleforum.llnl.gov. You may also provide comments via the NRC's interactive rulemaking Web site through the NRC's home page at http://ruleforum.llnl.gov. This site provides the capability to upload comments as files (any format), if your web browser supports that function. For information about the interactive rulemaking Web site, contact Ms. Carol Gallagher at (301) 415-5905 or by e-mail to cag@nrc.gov. Copies of any comments received and certain documents related to this rulemaking may be examined at the NRC Public Document Room (PDR), located at One White Flint North, 11555 Rockville Pike (first floor), Rockville, Maryland. The NRC maintains an Agencywide Documents Access and Management System (ADAMS), which provides text and image files of NRC's public documents. These documents may be accessed through the NRC's Public Electronic Reading Room on the Internet at http://www.nrc.gov/NRC/ADAMS/index.html. If you do not have access to ADAMS or there are problems in accessing the documents located in ADAMS, contact the NRC PDR reference staff at 1-800-397-4209, (301) 415-4737or by e-mail to pdr@nrc.gov.

FOR FURTHER INFORMATION CONTACT: Garmon West, Reactor Safeguards Policy Section, Office of Nuclear Reactor Regulation, U.S. Nuclear Regulatory Commission, Washington, DC 20555-0001; Telephone: (301) 415-1044; Internet: fitnessforduty@nrc.gov.

SUPPLEMENTARY INFORMATION: This draft rule language is preliminary and may be incomplete in one or more respects. This draft rule language is being released to inform stakeholders of the current status of the NRC staff's 10 CFR part 26 rulemaking and to provide an opportunity for stakeholders to submit comments for the staff's consideration in development of a possible proposed rule. As appropriate, the Statements of Consideration for the proposed rule will briefly discuss substantive changes made to the rule language as result of comments received. If appropriate, based on the particular schedule and other circumstances unique to the rule, the NRC may periodically update the Web site content with significant changes as the proposed rule language evolves. Previous versions of the rule language may not be maintained on the Web site.

Dated at Rockville, Maryland, this 11th day of February, 2002.
For the Nuclear Regulatory Commission.
Bruce A. Boger,
Director, Division of Inspection Program Management, Office of Nuclear Reactor Regulation.

[FR Doc. 02-3679 Filed 2-14-02; 8:45 am]

BILLING CODE 7590-01-P